DEPARTMENT OF TRANSPORTATION

Federal Aviation Administration

14 CFR Part 39

[Docket No. FAA-2011-1414; Directorate Identifier 2011-NM-227-AD; Amendment 39-16982; AD 2012-06-01]

RIN 2120-AA64

Airworthiness Directives; Cessna Aircraft Company Airplanes

AGENCY: Federal Aviation Administration (FAA), DOT.

ACTION: Final rule.

SUMMARY: We are adopting a new airworthiness directive (AD) for certain Cessna Aircraft Company Model 560XL airplanes. This AD was prompted by reports of jammed or stiff rudder control due to water freezing on the rudder bias cables and pulleys of the stinger. This AD requires modification of the drain installation of the tailcone stinger on the aft canted bulkhead, inspections for drain holes in the forward and aft frames, and modification of the drain holes. We are issuing this AD to prevent ice accumulation on the cables and pulleys of the stinger, which could result in jamming of the rudder and consequent reduced controllability of the airplane.

DATES: This AD is effective April 25, 2012.

The Director of the Federal Register approved the incorporation by reference of certain publications listed in the AD as of April 25, 2012.

ADDRESSES: For service information identified in this AD, contact Cessna Aircraft Co., P.O. Box 7706, Wichita, Kansas 67277; telephone 316-517-6215; fax 316-517-5802; email citationpubs@cessna.textron.com; Internet https://www.cessnasupport.com/newlogin.html. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: David Fairback, Aerospace Engineer, Mechanical Systems and Propulsion Branch, ACE-116W, FAA, Wichita Aircraft Certification Office (ACO), 1801 Airport Road, Room 100, Mid-Continent Airport, Wichita, Kansas 67209; phone: (316) 946-4154; fax: (316) 946-4107; email: david.fairback@faa.gov.

SUPPLEMENTARY INFORMATION:

Discussion

We issued a notice of proposed rulemaking (NPRM) to amend 14 CFR part 39 to include an AD that would apply to the specified products. That NPRM was published in the Federal Register on December 30, 2011 (76 FR 82205). That NPRM proposed to require modification of the drain installation of the tailcone stinger on the aft canted bulkhead, inspections for drain holes in the forward and aft frames, and modification of the drain holes.

Comments

We gave the public the opportunity to participate in developing this AD. We have considered the comment received. The National Transportation Safety Board supports the NPRM (76 FR 82205, December 30, 2011).

Conclusion

We reviewed the relevant data, considered the comment received, and determined that air safety and the public interest require adopting the AD as proposed-except for minor editorial changes. We have determined that these minor changes:

• Are consistent with the intent that was proposed in the NPRM (76 FR 82205, December 30, 2011) for correcting the unsafe condition; and

• Do not add any additional burden upon the public than was already proposed in the NPRM (76 FR 82205, December 30, 2011).

Costs of Compliance

We estimate that this AD affects 475 airplanes of U.S. registry.

We estimate the following costs to comply with this AD:

Estimated Costs
Action | Labor cost | Parts cost | Cost per product | Cost on U.S. operators
Modification of stinger drain installation | 10 work-hours × $85 per hour = $850 | $489 | $1,339 | $636,025
Prior/concurrent modification of drain holes | 5 work-hours × $85 per hour = $425 | 255 | 680 | 323,000

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-06-01 Cessna Aircraft Company: Amendment 39-16982 ; Docket No. FAA-2011-1414; Directorate Identifier 2011-NM-227-AD.

(a) Effective Date

This AD is effective April 25, 2012.

(b) Affected ADs

None.

(c) Applicability

This AD applies to Cessna Aircraft Company Model 560XL airplanes; certificated in any category; serial numbers -5002 through -5372 inclusive, -5501 through -5830 inclusive, -6002 through -6080 inclusive, and -6082 through -6086 inclusive.

(d) Subject

Joint Aircraft System Component (JASC)/Air Transport Association (ATA) of America Code 53: Fuselage.

(e) Unsafe Condition

This AD was prompted by reports of jammed or stiff rudder control due to water freezing on the rudder bias cables and pulleys of the stinger. We are issuing this AD to prevent ice accumulation on the cables and pulleys of the stinger, which could result in jamming of the rudder and consequent reduced controllability of the airplane.

(f) Compliance

Comply with this AD within the compliance times specified, unless already done.

(g) Modification of the Drain Installation

Within 800 flight hours or 12 months after the effective date of this AD, whichever occurs first: Modify the drain installation of the tailcone stinger on the aft canted bulkhead (i.e., install a drain and rubber seals), in accordance with the Accomplishment Instructions of Cessna Service Bulletin SB560XL-53-16, dated October 4, 2011.

(h) Modification of the Drain Holes

For airplanes identified in Cessna Alert Service Letter ASL560XL-53-08, dated January 21, 2011: Prior to or concurrently with the modification required by paragraph (g) of this AD, modify the drain holes, including inspecting for a missing drain hole and, before further flight, drilling a larger drain hole as applicable; in accordance with the Accomplishment Instructions of Cessna Alert Service Letter ASL560XL-53-08, dated January 21, 2011.

Note 1 to paragraphs (g) and (h) of this AD: After accomplishing the actions required by paragraphs (g) and (h) of this AD, maintenance and/or preventative maintenance under 14 CFR part 43 is permitted provided the maintenance does not result in changing the AD-mandated configuration (reference 14 CFR 39.7).

(i) No Reporting

Although Cessna Service Bulletin SB560XL-53-16, dated October 4, 2011; and Cessna Alert Service Letter ASL560XL-53-08, dated January 21, 2011; both specify to submit certain maintenance information to the manufacturer, this AD does not include that requirement.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

For more information about this AD, contact David Fairback, Aerospace Engineer, Mechanical Systems and Propulsion Branch, ACE-116W, FAA, Wichita Aircraft Certification Office (ACO), 1801 Airport Road, Room 100, Mid-Continent Airport, Wichita, Kansas 67209; phone: (316) 946-4154; fax: (316) 946-4107; email: david.fairback@faa.gov.

(l) Material Incorporated by Reference

(1) You must use the following service information to do the actions required by this AD, unless the AD specifies otherwise. The Director of the Federal Register approved the incorporation by reference (IBR) on the date specified under 5 U.S.C. 552(a) and 1 CFR part 51.

(i) Cessna Service Bulletin SB560XL-53-16, dated October 4, 2011, including Service Bulletin Supplemental Data SB560XL-53-16, Revision A, dated October 20, 2011.

(ii) Cessna Alert Service Letter ASL560XL-53-08, dated January 21, 2011.

(2) For service information identified in this AD, contact Cessna Aircraft Co., P.O. Box 7706, Wichita, Kansas 67277; telephone 316-517-6215; fax 316-517-5802; email citationpubs@cessna.textron.com; Internet https://www.cessnasupport.com/newlogin.html.

(3) You may review copies of the referenced service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr-locations.html.

Issued in Renton, Washington, on March 9, 2012.
Ali Bahrami,
Manager, Transport Airplane Directorate, Aircraft Certification Service.

[FR Doc. 2012-6522 Filed 3-20-12; 8:45 am]

BILLING CODE 4910-13-P